DEPARTMENT OF ENERGY

Federal Energy Regulatory Commission

[Docket No. CP09-161-000]

Bison Pipeline, L.L.C.; Notice of Availability of the Final Environmental Impact Statement for the Proposed Bison Pipeline Project

December 29, 2009.

The staff of the Federal Energy Regulatory Commission (FERC or Commission) has prepared a final environmental impact statement (EIS) for the Bison Pipeline Project proposed by Bison Pipeline, L.L.C. (Bison) in the above-referenced docket. Bison requests authorization to construct and operate pipeline facilities to deliver approximately 477 million cubic feet per day of natural gas from the Powder River Basin in northeast Wyoming, through southeastern Montana and southwestern North Dakota, to the Northern Border pipeline system. Through the existing Northern Border pipeline, the natural gas would be shipped to markets in the Midwestern United States (primarily Iowa, Minnesota, Wisconsin, and Illinois).

The final EIS assesses the potential environmental effects of the construction and operation of the Bison Pipeline Project in accordance with the requirements of the National Environmental Policy Act of 1969 (NEPA). The FERC staff concludes that approval of the proposed project would have some adverse environmental impact; however, we believe that environmental impacts would be reduced to less-than-significant levels if the proposed Project is constructed and operated in accordance with applicable laws and regulations, Bison's proposed mitigation, and additional measures recommended in the EIS.

The U.S. Department of the Interior, Bureau of Land Management (BLM) participated as a cooperating agency in the preparation of the EIS. Cooperating agencies have jurisdiction by law or special expertise with respect to resources potentially affected by the proposal and participate in the NEPA analysis. The BLM would present their own conclusions and recommendations in their Record of Decision, and would adopt this EIS per 40 Code of Federal Regulations (CFR) 1506.3 if, after an independent review of the document, they conclude that their permitting requirements have been satisfied.

The final EIS addresses the potential environmental effects of the construction and operation of the following project facilities:

• Approximately 301.2 miles of 30-inch-diameter natural gas transmission pipeline;

• One new compressor station totaling 4,700 horsepower of compression: the Hettinger Compressor Station located in Hettinger County, North Dakota;

• Two new meter stations;

• Nineteen mainline valves; and

• Three pig ¹ launcher and pig receiver facilities.

¹ A “pig” is a mechanical device used to clean or inspect the pipeline.

Dependent upon Commission approval, Bison proposes to complete construction and begin operating the proposed Project in November 2010.

The final EIS has been placed in the public files of the FERC and is available for public viewing on the FERC's Web site at http://www.ferc.gov. A limited number of copies are available for distribution and public inspection at: Federal Energy Regulatory Commission, Public Reference Room, 888 First Street, NE., Room 2A, Washington, DC 20426, (202) 502-8371.

Copies of the EIS have been mailed to federal, state, and local government agencies; elected officials; Native American tribes and regional organizations; local libraries and newspapers; parties to this proceeding; and other interested parties. Hard copy versions of the EIS were mailed to those specifically requesting them; all others received a CD-ROM version.

Questions?

Additional information about the project is available from the Commission's Office of External Affairs, at 1-866-208-FERC (3372) or on the FERC Web site (http://www.ferc.gov) using the eLibrary link. Click on the eLibrary link, click on “general Search” and enter the docket number excluding the last three digits in the Docket Number field (i.e., CP09-161). Be sure you have selected an appropriate date range. For assistance, please contact FERC Online Support at FercOnlineSupport@ferc.gov or toll free at 1-866-208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. E9-31319 Filed 1-4-10; 8:45 am]

BILLING CODE 6717-01-P